DEPARTMENT OF JUSTICE

Notice of Lodging of Proposed Second Consent Decree Under the Toxic Substances Control Act

On November 25, 2025, the Department of Justice lodged a proposed Second Consent Decree with the United States District Court for the Central District of California in the lawsuit entitled United States v. Lowe's Home Centers, LLC, Civil Action No. 2:25-cv-09324-CV-RAO.

The proposed Second Consent Decree resolves Lowe's Home Centers, LLC's (“Lowe's”) violations of the Toxic Substances Control Act (“TSCA”), 15 U.S.C. 2682(c) and 2686(b), and EPA's Renovation, Repair, and Painting Rule codified at 40 CFR part 745, subpart E (“RRP Rule”), as well as Lowe's violations of a 2014 Consent Decree that resolved earlier violations of the RRP Rule. The proposed Second Consent Decree requires Lowe's to implement management systems that will improve its compliance (and its subcontractors' compliance) with the RRP Rule. Lowe's will also pay a $12.5 million penalty.

The publication of this notice opens a period for public comment on the proposed Second Consent Decree. Comments should be addressed to the Assistant Attorney General, Environment and Natural Resources Division, and should refer to United States v. Lowe's Home Centers, LLC, D.J. Ref. No. 90-5-1-1-10673. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the proposed Second Consent Decree may be examined and downloaded at this Justice Department website: https://www.justice.gov/enrd/consent-decrees. If you require assistance accessing the proposed Second Consent Decree, you may request assistance by email or by mail to the addresses provided above for submitting comments.

Jason A. Dunn,
Assistant Section Chief, Environmental Enforcement Section, Environment and Natural Resources Division.

[FR Doc. 2025-21968 Filed 12-4-25; 8:45 am]

BILLING CODE 4410-15-P